DEPARTMENT OF HEALTH AND HUMAN SERVICES

Administration for Children and Families

Submission for Office of Management and Budget Review; Diaper Distribution Demonstration and Research Pilot Beneficiary Information

AGENCY: Office of Community Services, Administration for Children and Families, U.S. Department of Health and Human Services.

ACTION: Request for public comments.

SUMMARY: The Office of Community Services (OCS), Administration for Children and Families (ACF), U.S. Department of Health and Human Services, is proposing to continue to collect data to understand diaper need and outcomes for beneficiaries of the Diaper Distribution Demonstration and Research Pilot (DDDRP).

DATES: Comments due January 21, 2025. The Office of Management and Budget (OMB) must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The DDDRP Beneficiary Information collection includes a beneficiary survey to be used by the first three cohorts of grant recipients and a beneficiary report to be used by cohort 4 and grant recipients receiving future awards. The DDDRP beneficiary survey was developed to examine diaper need and outcomes for beneficiaries served by DDDRP. It was piloted under the Formative Data Collections for ACF Program Support information collection (OMB #0970-0531) with the first three cohorts of DDDRP grant recipients. The survey is administered at enrollment and collects demographic data on the children served and caregivers enrolling the program, along with information about employment, education, and income as well as indicators of diaper need. The DDDRP beneficiary report is a report submitted by grant recipients ever six months that includes information on beneficiary characteristics and outcomes collected by grant recipient partners.

Respondents: Respondents for the beneficiary survey are the caregivers enrolling their family members with diaper needs in DDDRP services. Respondents for the beneficiary report are the grant recipients and their partners who collect and compile the data, as well as the beneficiaries who provide information on their characteristics and outcomes.

Annual Burden Estimates

Instrument | Total number of respondents | Total number of responses per respondent | Average burden hours per response | Total burden hours | Annual burden hours
Beneficiary Survey—Enrollment Version | 13,500 | 1 | .167 | 2,250 | 750
Beneficiary Report—Grant Recipients | 35 | 4 | 3 | 420 | 140
Beneficiary Report—Partners | 280 | 4 | 10 | 11,200 | 3,733.33
Beneficiary Report—Beneficiaries | 64,000 | 2 | 0.083 | 10,666.67 | 3,555.56

Estimated Total Annual Burden Hours: 8,178.89.

Authority: Section 1110, Social Security Act, 42 U.S.C. 1310.

Mary C. Jones,
ACF/OPRE Certifying Officer.

[FR Doc. 2024-30407 Filed 12-19-24; 8:45 am]

BILLING CODE 4184-24-P